DEPARTMENT OF THE INTERIOR

Fish and Wildlife Service

50 CFR Part 17

[Docket No. FWS-R1-ES-2010-0071; MO 92210-0-0009]

RIN 1018-AX16

Endangered and Threatened Wildlife and Plants; Designation of Critical Habitat for Lepidium papilliferum (Slickspot Peppergrass)

AGENCY: Fish and Wildlife Service, Interior.

ACTION: Proposed rule; extension of comment period.

SUMMARY: We, the U.S. Fish and Wildlife Service (Service), announce the extension of the comment period on the proposed designation of critical habitat for Lepidium papilliferum (slickspot peppergrass). In total, we are proposing to designate 23,374 hectares (57,756 acres) as critical habitat for L. papilliferum in Ada, Elmore, Payette, and Owyhee Counties in Idaho. We are extending the public comment period an additional 60 days beyond the current scheduled closing date of July 11, 2011. If you have previously submitted comments, you do not need to resubmit them since we have incorporated them into the public record and will fully consider them in preparation of the final rule.

DATES: Written Comments: We will accept comments received or postmarked on or before September 9, 2011. Please note that if you are using the Federal eRulemaking Portal (see ADDRESSES section, below) the deadline for submitting an electronic comment is 11:59 p.m. Eastern Standard Time on this date. Any comments that we receive after the closing date may not be fully considered in the final decision on this action.

ADDRESSES: You may submit comments by one of the following methods:

• Federal eRulemaking Portal: http://www.regulations.gov. In the box that reads “Enter Keyword or ID,” enter the docket number for this proposed rule, which is FWS-R1-ES-2010-0071 and then click the Search button. You should then see an icon that reads “Submit a Comment.” Please ensure that you have found the correct rulemaking before submitting your comment.

• U.S. mail or hand-delivery: Public Comments Processing, Attn: FWS-R1-ES-2010-0071; Division of Policy and Directives Management; U.S. Fish and Wildlife Service; 4401 N. Fairfax Drive, MS 2042-PDM; Arlington, VA 22203.

We will post all comments on http://www.regulations.gov. This generally means that we will post any personal information you provide us (see the Public Comments section below for more information). Information regarding this notice is available in alternative formats upon request.

FOR FURTHER INFORMATION CONTACT: Brian T. Kelly, State Supervisor, U.S. Fish and Wildlife Service, Idaho Fish and Wildlife Office, 1387 South Vinnell Way, Room 368, Boise, ID 83709; telephone 208-378-5243; facsimile 208-378-5262. If you use a telecommunications device for the deaf (TDD), call the Federal Information Relay Service (FIRS) at 800-877-8339.

SUPPLEMENTARY INFORMATION:

Background

Under the Endangered Species Act of 1973 (Act) (16 U.S.C. 1531 et seq.), as amended, we listed Lepidium papilliferum as a threatened species on October 8, 2009 (74 FR 52014). On May 10, 2011, we published the proposed designation of critical habitat for L. papilliferum (76 FR 27184). All details of the proposed critical habitat designation are provided in our May 10, 2011, proposed rule, available online at http://www.regulations.gov, or by contacting the Idaho Fish and Wildlife Office (see FOR FURTHER INFORMATION CONTACT). We are seeking data and comments from the public on all aspects of the proposed critical habitat designation for L. papilliferum.

On June 1, 2011, we received a request from the Governor of Idaho seeking a 60-day extension of the comment period so that the State of Idaho may coordinate comments between the State agencies that may be affected by critical habitat, and to allow adequate time for citizens to provide input on the proposed critical habitat designation. This notice announces the 60-day extension as requested.

Public Comments

We intend that any final action resulting from this proposed rule will be based on the best scientific and commercial data available and be as accurate and as effective as possible. Therefore, we request comments or information from the public, other concerned government agencies, the scientific community, industry, or other interested parties concerning this proposed rule. We will consider information and recommendations from all interested parties. We particularly seek comments concerning:

(1) The reasons why we should or should not designate habitat as “critical habitat” under section 4 of the Act, including whether there are threats to Lepidium papilliferum from human activity, the degree to which threats from human activity can be expected to increase due to the designation, and whether that increase in threats outweighs the benefit of designation such that the designation of critical habitat may not be prudent.

(2) Specific information on:

• The amount and distribution of Lepidium papilliferum habitat;

• What areas occupied at the time of listing and that contain features essential to the conservation of Lepidium papilliferum should be included in the designation and why;

• The habitat components (primary constituent elements) essential to the conservation of the species, such as specific soil characteristics, plant associations, or pollinators, and the quantity and spatial arrangement of these features on the landscape needed to provide for the conservation of the species;

• What areas not occupied at the time of listing are essential for the conservation of the species, if any, and why; and

• Special management considerations or protections that the features essential to the conservation of Lepidium papilliferum may require, including managing for the potential effects of climate change.

(3) Land use designations and current or planned activities in the subject areas and their possible impacts on proposed critical habitat.

(4) Any probable economic, national security, or other relevant impacts of designating any area that may be included in the final designation. We are particularly interested in any impacts on small entities, and the benefits of including or excluding areas that are subject to these impacts.

(5) Whether the benefits of excluding any particular area from critical habitat outweigh the benefits of including that area in critical habitat under section 4(b)(2) of the Act, after considering both the potential impacts and benefits of the proposed critical habitat designation. Under section 4(b)(2) of the Act, we may exclude an area from critical habitat if we determine that the benefits of such exclusion outweigh the benefits of including that particular area as critical habitat, unless failure to designate that specific area as critical habitat will result in the extinction of the species. We are considering the possible exclusion of areas under private ownership, in particular, as we anticipate the benefits of exclusion may outweigh the benefits of inclusion in those areas. We, therefore, request specific information on:

• The benefits of including any specific areas in the final designation and supporting rationale;

• The benefits of excluding any specific areas from the final designation and supporting rationale; and

• Whether any specific exclusions may result in the extinction of the species and why.

(6) The use of Public Land Survey System quarter-quarter sections to delineate the proposed critical habitat designation; we used quarter-quarter sections in this proposed rule because they are the most commonly used minimum size and method for delineating land ownership boundaries within the range of Lepidium papilliferum.

(7) Information on the projected and reasonably likely impacts of climate change on Lepidium papilliferum and on the critical habitat areas we are proposing.

(8) Whether we could improve or modify our approach to designating critical habitat in any way to provide for greater public participation and understanding, or to better accommodate public concerns and comment.

Our final determination concerning critical habitat for Lepidium papilliferum will take into consideration all written comments we receive during the comment period, including comments from peer reviewers, comments we receive during any public hearing should one be requested, and any additional information we receive during the extended comment period. All comments will be included in the public record for this rulemaking. On the basis of peer reviewer and public comments, we may, during the development of our final determination, find that areas within the proposed designation do not meet the definition of critical habitat, that some modifications to the described boundaries are appropriate, or that areas may or may not be appropriate for exclusion under section 4(b)(2) of the Act.

You may submit your comments and materials concerning our proposed rule by one of the methods listed in the ADDRESSES section. We request that you send comments only by the methods described in the ADDRESSES section.

If you submit a comment via http://www.regulations.gov, your entire submission—including any personal identifying information—will be posted on the Web site. If your submission is made via a hardcopy that includes personal identifying information, you may request at the top of your document that we withhold this personal identifying information from public review. However, we cannot guarantee that we will be able to do so. We will post all hardcopy submissions on http://www.regulations.gov. Please include sufficient information with your comments to allow us to verify any scientific or commercial information you include.

Comments and materials we receive, as well as supporting documentation we used in preparing the proposed rule, will be available for public inspection on http://www.regulations.gov, or by appointment, during normal business hours, at the U.S. Fish and Wildlife Service, Idaho Fish and Wildlife Office (see FOR FURTHER INFORMATION CONTACT).

We will take into consideration all comments and any additional information we received during this extended comment period on the proposed rule during the preparation of a final rulemaking. Accordingly, the final decision may differ from the proposal.

Authors

The primary authors of this notice are the staff members of the Idaho Fish and Wildlife Office (see FOR FURTHER INFORMATION CONTACT section).

Authority: The authority for this action is the Endangered Species Act of 1973, as amended (16 U.S.C. 1531 et seq.).

Dated: June 24, 2011.
Rachel Jacobson,
Acting Assistant Secretary for Fish and Wildlife and Parks.

[FR Doc. 2011-16748 Filed 7-6-11; 8:45 am]

BILLING CODE 4310-55-P